NUCLEAR REGULATORY COMMISSION

[Docket No. 40-9059; NRC-2018-0158]

Water Remediation Technology, LLC

AGENCY: Nuclear Regulatory Commission.

ACTION: Environmental assessment and finding of no significant impact; issuance.

SUMMARY: The U.S. Nuclear Regulatory Commission (NRC) is considering renewal of Water Remediation Technology, LLC (WRT) Source Materials License No. SUC-1591, as well as WRT's request to expand the scope of its licensed activities. License SUC-1591 was originally issued by the NRC on January 25, 2007, and is a performance-based, multisite license that authorizes WRT to use its ion exchange technology to remove uranium from community drinking water systems (CWSs). WRT submitted its request for license renewal and to expand the scope of licensed activities on December 21, 2016, and on January 16, 2018, WRT revised its application to request a 20-year renewal term.

DATES: The final environmental assessment (EA) referenced in this document is available on October 29, 2018.

ADDRESSES: Please refer to Docket ID NRC-2018-0158 when contacting the NRC about the availability of information regarding this document. You may obtain publicly-available information related to this document using any of the following methods:

• Federal Rulemaking Website: Go to http://www.regulations.gov and search for Docket ID NRC-2018-0158. Address questions about docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for the document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: James Park, Office of Nuclear Material Safety and Safeguards, U.S. Nuclear Regulatory Commission, Washington, DC 20555-0001; telephone: 301-415-6954, email: James.Park@nrc.gov.

SUPPLEMENTARY INFORMATION:

I. Introduction

The NRC is considering the renewal of WRT's Source Materials License No. SUC-1591 for a 20-year term and amending the license to expand the scope of authorized licensed activities. Therefore, as required by part 51 of Title 10 of the Code of Federal Regulations (10 CFR), the NRC performed an EA. Based on the results of this EA, the NRC has determined not to prepare an environmental impact statement (EIS) for the license renewal and for the expansion of the scope of the authorized licensed activities, and is issuing a finding of no significant impact.

License SUC-1591 was originally issued by the NRC on January 25, 2007 (ADAMS Accession No. ML062960463), to R.M.D. Operations, LLC (RMD), the predecessor of WRT. License SUC-1591 is a performance-based, multisite license that authorizes WRT to use its ion exchange technology to remove uranium from CWSs. WRT operates in several NRC “Agreement States,” where WRT's activities are subject to applicable State law and regulation due to the NRC's relinquishment of certain categories of its regulatory authority to the Agreement State.¹ Currently, WRT does not operate in any non-Agreement States, where its activities would be subject to NRC jurisdiction.

¹ Under Section 274 of the Atomic Energy Act, as amended (42 U.S.C. 2021), the NRC is authorized to relinquish certain prescribed categories of its regulatory authority to a State, provided that the State's governor enter into a duly authorized agreement with the NRC in accordance with Section 274. Presently, there are 38 Agreement States (Wyoming became the 38th Agreement State on September 30, 2018). Of these Agreement States, WRT operates in California, Colorado, Georgia, Nebraska, New Jersey, South Carolina, and Virginia.

II. Summary of Environmental Assessment

The NRC staff's EA is available online in the ADAMS Public Documents collection at http://www.nrc.gov/reading-rm/adams.html (ADAMS Accession No. ML18255A117). This section is a summary of the EA.

Description of the Proposed Action

The proposed action is the NRC staff's approval or disapproval of WRT's application to renew its license for an additional 20-year term and to expand the scope of licensed activities. The proposed action is in accordance with the licensee's application dated December 21, 2016 (ADAMS Accession No. ML16358A447), and with its January 16, 2018, request to extend the license renewal term from 10 to 20 years (ADAMS Accession No. ML18016B080). Renewal of its NRC license would allow WRT to continue using its ion exchange uranium recovery system (URS) to safely remove and contain uranium from CWS drinking water sources to levels at or below the uranium maximum concentration limit (MCL) set by the U.S. Environmental Protection Agency (EPA), and to transfer the uranium to an appropriately licensed facility for either reuse (i.e., mixed uranium oxide [“yellowcake”] production) or disposal. Expansion of the scope of WRT's authorized licensed activities would allow WRT to remove uranium from non-drinking water sources (e.g., mine sites, pit lakes, and groundwater remediation sites). If approved by the NRC, these activities would be authorized under a renewed License SUC-1591.

Need for the Proposed Action

The current version of License SUC-1591 authorizes the licensee to install its URS at a CWS, to possess and store the extracted uranium in the URS, and to transfer and properly disposition the extracted uranium.

In addition to renewing its license for an additional 20-year term, WRT seeks to expand the scope of its licensed activities to include the use of its URS at customer facilities other than CWSs for the purpose of removing uranium from non-drinking water sources (e.g., mines, pit lakes, and groundwater remediation sites).

Environmental Impacts of the Proposed Action

The NRC staff assessed the environmental impacts of the license renewal and expanded scope of activities and determined there would not be significant impacts to the quality of the human environment. The NRC staff concluded that impacts for most resource areas, namely, land use; geology and soils; transportation; water resources; ecological resources; air quality; noise; visual and scenic resources; socioeconomics; public and occupational health; and waste management were small. With respect to environmental justice, the NRC staff does not expect that the proposed action (to include an expanded scope of licensed activities) would cause noticeable impact on any population. Therefore, the NRC staff has determined that there are no disproportionately high and adverse human health and environmental effects on minority or low-income populations.

For historic and cultural resources, the NRC expects that there would be no adverse effects on historic properties from the continued use of WRT's URS at CWSs and if the request to expand the scope of authorized license activities is approved, the NRC similarly expects that there would be no adverse effects on historic properties and cultural resources resulting from the installation and operation of WRT's URS at non-drinking water sites. As described in the environmental assessment, the renewed SUC-1591 license will include license conditions that sets parameters on the types of locations where WRT can install its URS without prior NRC approval. These license conditions are expected to prevent any adverse effects to historic properties and cultural resources. If WRT seeks to install a URS at a site not meeting these license conditions, WRT would then need to submit a license amendment to the NRC for that specific site and the NRC would then conduct a site-specific environmental review prior to making its decision on whether to approve or disapprove that license amendment request.

The NRC has also determined that the proposed action is not likely to adversely affect threatened and endangered species. Similar to historic and cultural resources, the license conditions setting parameters on the types of locations where WRT can install its URS are expected to prevent any impacts to threatened or endangered species and their critical habitat.

Environmental Impacts of the Alternatives to the Proposed Action

The NRC staff evaluated the no-action alternative, that is denial of WRT's license renewal request and by default, denial of its expanded scope request—in effect, WRT's multisite license SUC-1591 would expire. The NRC staff also evaluated a partial alternative involving approval of WRT's license renewal request, but not its expanded scope request, such that WRT would only be authorized to continue to use its URS at CWS sites in non-Agreement States under its multisite license.

The no-action alternative (i.e., denial of the license renewal request) would have no impact on current WRT operations, as those operations occur exclusively in Agreement States, where WRT is subject to applicable State law and regulation and operates in accordance with its Agreement State licenses. As such, WRT could continue to operate in its current locations as well as in other potential, future Agreement State locations if the NRC denies the license renewal request. Thus, a denial of the license renewal request would only forestall WRT from operating in a non-Agreement State under its multisite license.

If the NRC exercises the no-action alternative, WRT could choose to apply to the NRC for a specific license for each potential CWS client. If, however, WRT chose not to apply for such a specific license, then the affected CWS would not be able to utilize WRT's URS to meet the EPA-mandated uranium MCL for drinking water. The CWS would then have to rely upon other alternative treatment methodologies and technologies to meet the applicable MCL. These other treatment methodologies and technologies were described in the 2006 EA (ADAMS Accession No. ML062490415) that supported the issuance of the 2007 license to RMD; the environmental impacts of these alternative treatment methodologies and technologies would most likely be similar to the use of the WRT URS.

In assessing environmental impacts for CWSs under the partial alternative (denial of the expanded scope request), the NRC staff noted that it had evaluated the potential environmental impacts of authorizing WRT to operate at CWS sites in its 2006 EA. The NRC staff's evaluation of WRT's performance since 2007 has confirmed the findings and conclusions of the 2006 EA. Therefore, the NRC staff has determined that the partial alternative will present the same environmental impacts that the proposed action would likely have with respect to CWS facilities

With respect to non-drinking water sites, under both the no-action alternative and the partial alternative, WRT could choose to apply for a specific license for each potential non-drinking water site. If WRT chose not to submit a specific license application for a given non-drinking water site, then that site would not be impacted by WRT operations. The owners and operators of such a non-drinking water site would then have to consider other alternative treatment methodologies or technologies to reduce uranium levels or would have to forego reducing the uranium levels altogether (non-drinking water sites are not subject to EPA's Safe Drinking Water Act regulations).

Agencies and Persons Consulted

By letters dated July 5, 2018 (ADAMS Accession No. ML18131A200), the NRC staff requested comment on a draft of this environmental assessment from a total of seven NRC Agreement States where the NRC staff understood that WRT was currently operating: California, Colorado, Georgia, Nebraska, New Jersey, South Carolina, and Virginia. Responses were received from six of the seven of the Agreement States (Nebraska did not respond), with the EA revised to address the comments received.

III. Finding of No Significant Impact

Based on its review of the proposed action, as documented in the EA, the NRC staff concludes that the renewal of License SUC-1591 with an expanded scope of authorized activities will not have a significant effect on the quality of the human environment. Therefore, the NRC staff has determined not to prepare an EIS for the proposed action and that, pursuant to 10 CFR 51.32, a finding of no significant impact is appropriate.

Dated at Rockville, Maryland, on October 23, 2018.
For the Nuclear Regulatory Commission.
Brian W. Smith,
Acting Director, Division of Fuel Cycle Safety, Safeguards and Environmental Review, Office of Nuclear Material Safety and Safeguards.

[FR Doc. 2018-23509 Filed 10-26-18; 8:45 am]

BILLING CODE 7590-01-P